DEPARTMENT OF THE INTERIOR

Office of the Secretary

Tribal Consultation on Proposed Self-Determination and Self-Governance Funding Agreement Language on Fiduciary Trust Records Management

AGENCY: Office of the Secretary, Interior.

ACTION: Notice of tribal consultation meeting.

SUMMARY: This notice announces three consultation meetings that will be held to obtain oral and written comments concerning (1) a proposed policy on fiduciary trust records management for Self-Determination (Title I) and Self-Governance (Title IV) Tribes/Consortia; and (2) proposed language to be negotiated as part of the 2006 Title I and Title IV funding agreements regarding fiduciary trust records management. These meetings support the Department of the Interior's (Department's) administrative policy on tribal consultation by encouraging maximum direct participation of representatives of tribal governments, tribal organizations and other interested persons on important Departmental issues and processes.

In developing the proposed policy and language, the Department had pre-scoping telephone conversations with tribal leaders and staff; held a scoping meeting as part of a 2-day conference on Indian trust records management; formed a Tribal Fiduciary Trust Records Management Workgroup; held four workgroup meetings; transmitted a tribal leader letter soliciting comments on the proposed policy language to be presented for consultation; and engaged in discussions with tribal leaders and staff at the Fall Self-Governance Conference. The proposed policy and language incorporates many valuable comments received to date. The upcoming consultation will provide another opportunity for Indian tribes and interested parties to comment on proposed federal policy and funding agreement language regarding fiduciary trust records management for Title I and Title IV Tribes/Consortia.

Once final decisions are made regarding the policy and the funding agreement language, guidance will be provided to the Director, Bureau of Indian Affairs and the Director, Office of Self-Governance and Self-Determination regarding language to be negotiated as part of the 2006 Title I and Title IV funding agreements regarding fiduciary trust records management.

DATES: The following three consultation meetings will be held:

1. March 2, 2005, 9 a.m. to 1 p.m., Portland, Oregon.

2. March 3, 2005, 9 a.m. to 1 p.m., Phoenix, Arizona.

3. March 9, 2005, 9 a.m. to 1 p.m., Nashville, Tennessee.

Written comments should be postmarked or faxed no later than March 11, 2005.

ADDRESSES: The meeting locations are:

1. Portland—Red Lion Portland Convention Center, 1021 NE. Grand Avenue, Portland, Oregon; telephone: (503) 235-2100.

2. Phoenix—Hilton Phoenix Airport, 2435 South 47th Street, Phoenix, Arizona; telephone: (480) 894-1600.

3. Nashville—DoubleTree Hotel Nashville—Downtown, 315 4th Avenue North, Nashville, Tennessee; telephone: (615) 747-8200.

Written comments may be mailed to William A. Sinclair, Director, Office of Self-Governance and Self-Determination, Mail Stop 4618-MIB, 1849 C Street, NW., U.S. Department of the Interior, Washington, DC 20240. Postmark must be no later than March 11, 2005. Comments may also be faxed to William A. Sinclair at (202) 219-1404 no later than March 11, 2005.

FOR FURTHER INFORMATION CONTACT: William A. Sinclair, Director, Office of Self-Governance and Self-Determination, Mail Stop 4618-MIB, 1849 C Street, NW., U.S. Department of the Interior, Washington, DC 20240; telephone: (202) 219-0244

SUPPLEMENTARY INFORMATION: The purpose of these consultation meetings is to provide Indian Tribes/Consortia and other interested parties with opportunities to consult on the proposed Department's policy on fiduciary trust records management regarding Title I and Title IV Tribes/Consortia and on proposed language to be negotiated as part of the 2006 Title I and Title IV funding agreements regarding fiduciary trust records management. The policy and language are being formulated to assure fulfillment of the United States' trust responsibility (1) to protect and preserve fiduciary trust records for tribal and individual Indian trust assets and (2) to confirm protection and beneficial use of Indian trust assets given the United States' trust responsibility for the trust assets being managed by Tribes/Consortia under Title I/Title IV funding agreements.

The proposed Department's Policy on Fiduciary Trust Records Management for Title I and Title IV Tribes/Consortia follows:

Preamble: The purpose of this fiduciary trust records policy is to create a partnership regarding fiduciary trust records management between Title I and Title IV Tribes/Consortia and the U.S. Department of the Interior (Department) so that Tribes/Consortia can continue to carry out their inherent governmental responsibilities and so that the Secretary of the Interior (Secretary) can fully discharge her responsibility as the trustee-delegate. This policy recognizes that Title I and Title IV Tribes/Consortia, as sovereign governments, are responsible for enhancing and protecting tribal resources to support the well being of their constituents and for fulfilling the requirements of their Title I and Title IV funding agreements. This policy recognizes that the Department has delegated non-inherent federal trust activities to Tribes and will assist, coordinate with and support Tribes/Consortia as both governments carry out this policy.

Policy Statement: The Secretary of the Interior (Secretary) must preserve, protect and manage all fiduciary trust records for the tribal and individual Indian trust assets that the Department manages as defined in footnote 2 on the decision flow chart. When Tribes/Consortia assume a fiduciary trust program, service, function or activity, or portion thereof, under Title I or Title IV funding agreements, they too must preserve, protect and manage all fiduciary trust records (as defined in footnote 2 on the decision flow chart), regardless of the source of funds used to generate the fiduciary trust records. This policy does not add any record keeping requirements on Tribes/Consortia. Except for the information that Tribes/Consortia must maintain pursuant to statutes and regulations, Tribes/Consortia are allowed to create those records they deem necessary to implement the trust programs assumed under Title I or Title IV funding agreements. These tribally created or maintained fiduciary trust records are permanent records and shall not be destroyed. With the exception of those fiduciary trust records submitted to the Secretary as part of a trust transaction decision, such records remain in the legal custody of the Tribe/Consortium and are not subject to the Freedom of Information Act (FOIA). The American Indian Records Repository (AIRR) in Lenexa, Kansas, is available to store all fiduciary trust records, including those from a Tribe/Consortium that no longer wishes to store its fiduciary trust records onsite or near the reservation. These records, when housed in the AIRR, will remain in the Tribe's/Consortium's legal custody.

The Secretary shall have reasonable access to the fiduciary trust records maintained by the Tribe/Consortium. The Secretary shall give reasonable oral or written advance request for access. Access shall include visual inspection and the production of copies as necessary and shall not include the involuntary removal of the records.

Decision Flow Chart: The flow diagram entitled “Is it a fiduciary trust record?” follows:

BILLING CODE 4310-WS-P

BILLING CODE 4310-WS-C

The following language is proposed to be negotiated as part of the 2006 Title I and Title IV funding agreements regarding fiduciary trust records management:

The Tribe/Consortium and Secretary agree to implement the Policy on Fiduciary Trust Records Management for Title I and Title IV Tribes/Consortia by working cooperatively in records creation, maintenance and disposition and training activities.

The Tribe/Consortium agrees to:

(a) Preserve, protect and manage all fiduciary trust records, as defined in the Secretary of Interior's Policy on Fiduciary Trust Records Management for Title I and Title IV Tribes/Consortia created and maintained by Tribes/Consortia during their management of trust programs in their Title I/Title IV agreements;

(b) Make available to the Secretary all fiduciary trust records maintained by the Tribe/Consortium, provided that the Secretary gives reasonable oral or written advance request to the Tribe/Consortium. Access shall include visual inspection and the production of copies as necessary and shall not include the involuntary removal of the records; and

(c) Store and permanently retain all inactive fiduciary trust records at the Tribe/Consortium or allow such records to be removed and stored at the American Indian Records Repository (AIRR) in Lenexa, Kansas at no cost to the Tribe/Consortium.

The Secretary agrees to:

(a) Allow the Tribe/Consortium to determine what records it maintains to implement the trust program assumed under a Title I or Title IV agreement except it must maintain the information required by statute and regulation;

(b) Store all inactive fiduciary trust records at AIRR at no cost to the Tribe/Consortium when the Tribe/Consortium no longer wishes to keep the records. Further, the Tribe/Consortium will retain legal custody and determine access to these records;

(c) Work with the Tribe/Consortium on a tribal storage and retrieval system for fiduciary trust records stored at AIRR; and

(d) Provide technical and financial assistance for Tribes/Consortia in preserving, protecting and managing their fiduciary trust records from available funds appropriated for this purpose.

Dated: January 26, 2005.
Abraham E. Haspel,
Assistant Deputy Secretary—Office of the Secretary.

[FR Doc. 05-1869 Filed 2-1-05; 8:45 am]

BILLING CODE 4310-W8-P